DEPARTMENT OF LABOR

Occupational Safety and Health Administration

[Docket No. ICR-1218-0236(2001)]

Procedures for the Handling of Discrimination Complaints Under Federal Employee-Protection Statutes; Extension of the Office of Management of Budget's Approval of Information-Collection (Paperwork) Requirements

AGENCY: Occupational Safety and Health Administration (OSHA), Labor.

ACTION: Notice of an opportunity for public comment.

SUMMARY: OSHA solicits public comment concerning its request to the Office of Management and Budget (OMB) for an extension of the information-collection requirements contained in section 24.3 (“Complaint”) of 29 CFR part 24 (“Procedures for the Handling of Discrimination Complaints under Federal Employee Protection Statutes”). Section 24.3 specifies the procedures employees must use to file a complaint with OSHA alleging that their employer violated a Federal statute that prohibits retaliation against employees who report unsafe or unlawful practices used by the employer that may damage the environment.

DATES: Submit written comments on or before April 30, 2001.

ADDRESSES: Submit written comments to the Docket Office, Docket No. ICR 1218-0236(2001), OSHA, U.S. Department of Labor, Room N-2625, 200 Constitution Avenue, NW., Washington, DC 20210; telephone: (202) 693-2350. Commenters may transmit written comments of 10 pages or less by facsimile to: (202) 693-1648.

FOR FURTHER INFORMATION CONTACT: Renee Carter, Office of General Industry Compliance Assistance, Directorate of Compliance Programs, U.S. Department of Labor, 200 Constitution Avenue, NW., Washington, DC, 20210; telephone: (202) 693-1850; e-mail: Renee.carter@osha.gov; or facsimile: (847) 297-4874. A copy of the Agency's Information-Collection Request (ICR) supporting the need for the information collections specified in the Federal employee-protection statutes addressed in this notice is available for inspection and copying in the Docket Office, or by requesting a copy from Todd Owen at (202) 693-2444. For electronic copies of this ICR, contact OSHA on the Internet at http://www.osha.gov/.

SUPPLEMENTARY INFORMATION:

I. Background

The Department of Labor, as part of its continuing effort to reduce paperwork and respondent (e.g., employer) burden, conducts a preclearance consultation program to provide the public with an opportunity to comment on proposed and continuing information-collection requirements in accordance with the Paperwork Reduction Act of 1995 (44 U.S.C. 3506(c)(2)(A)). This program ensures that information is in the desired format, reporting burden (time and costs) is minimal, collection instruments are clearly understood, and OSHA's estimate of the information burden is correct.

The Agency is responsible for investigating alleged violations of “whistle blower” provisions contained in a number of Federal statutes. These provisions prohibit retaliation by employers against employees who report unsafe or unlawful practices used by the employers that may damage the environment. Accordingly, these provisions prohibit an employer from discharging or taking any other retaliatory action against an employee with respect to compensation, or the terms, conditions, or privileges of employment because the employee engages in any of the protected activities specified by the “whistle blower” provisions of the Federal statutes. These provisions include the: Safe Water Drinking Act, 42 U.S.C. 300j-9(i); Water Pollution Control Act, 33 U.S.C. 1367; Toxic Substances Control Act, 15 U.S.C. 2622; Solid Waste Disposal Act, 42 U.S.C. 6971; Clean Air Act, 42 U.S.C. 7622; Energy Reorganization Act of 1974, 42 U.S.C. 5851; and Comprehensive Environmental Response, Compensation and Liability Act of 1980, 42 U.S.C. 9610.

Under 29 CFR part 24 (“Procedures for the Handling of Discrimination Complaints under Federal Employee Protection Statutes”), section 24.3 (“Complaint”) specifies the procedures that an employee must use to file a complaint with OSHA alleging that their employer violated a “whistle blower” provision for which the Agency has investigative responsibility. Any employee who believes that such a violation occurred may file a complaint, or have the complaint filed on their behalf. While OSHA specifies no particular form for filing a complaint, paragraph (c) of 29 CFR 24.3 (“Form of complaint”) requires that “a complaint must be in writing and should include a full statement of the acts and omissions, with pertinent dates, which are believed to constitute the violation.”

II. Special Issues for Comment

The Agency has a particular interest in comments on the following issues:

• Whether the proposed information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend OMB's approval of the collection-of-information (paperwork) requirements contained in the paragraph (c) of 29 CFR 24.3 (“Complaints”). The Agency will summarize the comments submitted in response to this notice, and will include this summary, along with the comments, in its request to OMB to extend the approval of these information-collection requirements.

Type of Review: Extension of currently approved information-collection requirements.

Title: Procedures for the Handling of Discrimination Complaints.

OMB Number: 1218-0236.

Affected Public: Individuals.

Number of Respondents: 1,700.

Frequency: On occasion.

Total Responses: 1,700.

Average Time Per Response: 1 hour.

Estimated Total Burden Hours: 1,700 hours.

Estimated Cost (Operation and Maintenance): $0.

IV. Authority and Signature

R. Davis Layne, Acting Assistant Secretary of Labor for Occupational Safety and Health, directed the preparation of this notice. The authority for this notice is the Paperwork Reduction Act of 1995 (44 U.S.C. 3506) and Secretary of Labor's Order No 3-2000 (65 FR 50017).

Signed at Washington, DC, on February 23, 2001.
R. Davis Layne,
Acting Assistant Secretary of Labor.

[FR Doc. 01-4900 Filed 2-27-01; 8:45 am]

BILLING CODE 4510-26-P